DEPARTMENT OF HEALTH AND HUMAN SERVICES

National Institutes of Health

National Cancer Institute; Amended Notice of Meeting

Notice is hereby given of a change in the meeting of the National Cancer Advisory Board, February 10, 2003, 7:15 p.m. to February 12, 2003, 10:45 a.m., which was published in the Federal Register on January 16, 2003, 68 FR 2343.

The notice is being amended to include a closed session on February 12 from 8 a.m. to 8:30 a.m.

The open session will convene at 8:30 a.m. The meeting is partially closed to the public.

Dated: February 6, 2003.
LaVerne Y. Stringfield,
Director, Office of Federal Advisory Committee Policy.

[FR Doc. 03-3619 Filed 2-13-03; 8:45 am]

BILLING CODE 4140-01-M